ENVIRONMENTAL PROTECTION AGENCY

[FRL OP-OFA-174]

Environmental Impact Statements; Notice of Availability

Responsible Agency: Office of Federal Activities, General Information 202-564-5632 or https://www.epa.gov/nepa.

Weekly receipt of Environmental Impact Statements (EIS)

Filed April 7, 2025 10 a.m. EST Through April 14, 2025 10 a.m. EST

Pursuant to CEQ Guidance on 42 U.S.C. 4332.

Notice

Section 309(a) of the Clean Air Act requires that EPA make public its comments on EISs issued by other Federal agencies. EPA's comment letters on EISs are available at: https://cdxapps.epa.gov/cdx-enepa-II/public/action/eis/search.

EIS No. 20250040, Final, USA, HI, Army Training Land Retention at Pōhakuloa Training Area, Review Period Ends: 05/19/2025, Contact: Phi L. Dang 520-687-2395.

EIS No. 20250041, Draft, NRCS, KS, Rattlesnake Creek Watershed Plan, Comment Period Ends: 06/02/2025, Contact: Dean Krehbiel 785-309-6093.

EIS No. 20250042, Draft, NRC, IL, Generic Environmental Impact Statement for License Renewal of Nuclear Plants, Supplement 63, Regarding License Renewal for Clinton Power Station, Unit 1, Comment Period Ends: 06/02/2025, Contact: Ashley Waldron 301-415-7317.

EIS No. 20250043, Draft Supplement, NRC, WI, Generic Environmental Impact Statement for License Renewal of Nuclear Plants, Supplement 23, Second Renewal, Regarding Subsequent License Renewal for Point Beach Nuclear Plant, Units 1 and 2, Second Draft Report for Comment (NUREG-1437), Comment Period Ends: 06/02/2025, Contact: Kevin Folk 301-415-6944.

EIS No. 20250044, Final, APHIS, PRO, Outbreak Response Activities for Highly Pathogenic Avian Influenza Outbreaks in Poultry in the United States and Territories, Review Period Ends: 05/19/2025, Contact: Chelsea Bare 515-337-6128.

Dated: April 14, 2025.
Nancy Abrams,
Associate Director, Office of Federal Activities.

[FR Doc. 2025-06699 Filed 4-17-25; 8:45 am]

BILLING CODE 6560-50-P